DEPARTMENT OF HOUSING AND URBAN DEVELOPMENT

[Docket No. FR-5637-N-01]

Notice of Intent To Prepare a Environmental Impact Statement (EIS) for the HOPE SF Development at Potrero Terrace and Potrero Annex Public Housing Development, San Francisco, CA

AGENCY: Office of the Assistant Secretary for Community Planning and Development, HUD.

ACTION: Notice of Intent to Prepare an EIS and to Conduct Public Scoping Meeting.

SUMMARY: This provides notice to the public, agencies, and Indian tribes that the City and County of San Francisco's Mayor's Office of Housing (MOH), as the Responsible Entity in accordance with 24 CFR 58.2(a)(7), intends to prepare a Draft Environmental Impact Report/Environmental Impact Statement (EIR/EIS) for the HOPE SF Development at the Potrero Terrace and Potrero Annex Public Housing Development (Potrero HOPE SF Master Plan Project). The EIR/EIS will be a joint National Environmental Policy Act (NEPA) and California Environmental Quality Act (CEQA) document. The EIR will satisfy requirements of CEQA (Public Resources Code 21000 et seq.) and the State CEQA Guidelines (14 California Code of Regulations 15000 et seq.), which require that state and local government agencies consider the environmental consequences of projects over which they have discretionary authority before acting on those projects. The proposed action is subject to NEPA, because funding for the project may include HUD funds from programs subject to regulation by 24 CFR part 58; these include, but are not limited to, Community Development Block Grant (CDBG) funds under Title I of the Housing and Community Development Act of 1974; Home Investment Partnership Program (HOME) grants under Title II of the Cranston-Gonzales National Affordable Housing Act of 1990 as amended; Project Based Section 8 Vouchers under the United States Housing Act of 1937; and/or Section 8(o)(13) and Public Housing operating subsidies for mixed income developments authorized under the U.S. Housing Act of 1937, Section 35. This notice is in accordance with the Council on Environmental Quality (CEQ) regulations at 40 CFR parts 1500-1508.

A Draft EIR/EIS will be prepared for the proposed action described herein. Comments relating to the Draft EIR/EIS are requested and will be accepted by the contact person listed below. When the Draft EIR/EIS is completed, a notice will be sent to individuals and groups known to have an interest in the Draft EIR/EIS and particularly in the environmental impact issues identified therein. Any person or agency interested in receiving a notice and making comment on the Draft EIR/EIS should contact the person listed below within 30-days after publication of this notice.

This EIS will be a NEPA document intended to satisfy requirements of federal environmental statutes. In accordance with specific statutory authority and HUD's regulations at 24 CFR part 58 (Environmental Review Procedures for Entities Assuming HUD Environmental Responsibilities), HUD has provided for assumption of its NEPA authority and NEPA lead agency responsibility by the City and County of San Francisco. The EIR will be a CEQA document intended to satisfy State environmental statutes (Public Resources Code 21000 et seq. and 14 California Code of Regulations 15000 et seq.).

ADDRESSES: All interested agencies, tribes, groups, and persons are invited to submit written comments on the project named in this notice and on the Draft EIS to the contact person shown in this notice. The office of the contact person should receive comments and all comments so received will be considered prior to the preparation and distribution of the Draft EIS. Particularly solicited is information on reports or other environmental studies planned or completed in the project area, major issues that the EIS should consider, recommended mitigation measures, and alternatives associated with the proposed action. Federal agencies having jurisdiction by law, special expertise or other special interest should report their interest and indicate their readiness to aid in the EIS effort as a “Cooperating Agency.”

FOR FURTHER INFORMATION CONTACT: Eugene Flannery, Environmental Compliance Manager, City and County of San Francisco Mayor's Office of Housing, 1 South Van Ness Avenue, 5th Floor, San Francisco, CA 94103; Phone: (415) 701-5598; Fax (415) 701- 5501; email: eugene.flannery@sfgov.org.

SUPPLEMENTARY INFORMATION:

A. Background

The MOH, acting under authority of section 104(g) of the Housing and Community Development Act of 1974 (42 U.S.C. 5304(g)), section 288 of the HOME Investment Partnerships Act (42 U.S.C. 12838), section 26 of the United States Housing Act of 1937 (42 U.S.C. 1437x) and HUD's regulations at 24 CFR part 58, in cooperation with other interested agencies, will prepare an EIS to analyze potential impacts of the Potrero HOPE SF Master Plan Project.

The proposed development would be on approximately 39 net acres in the T 2S R 5W portion of San Francisco on the San Francisco North Quadrangle 7.5-minute U.S.G.S. topographic quadrangle map. The project site is located on the southeastern border of the Potrero Hill neighborhood. The project site is one and one-half blocks west of Interstate 280 (I-280), four blocks east of U.S. Highway 101 (U.S. 101), two blocks north of Cesar Chavez Street and is bordered to the northwest by the Potrero Hill Recreation Center. The eastern edge of the site sits on a ridge paralleling Pennsylvania Street below. The project site is comprised of several parcels that contain the Potrero Terrace and Potrero Annex properties and an adjacent San Francisco Unified School District (SFUSD) owned property. Combined, these parcels have a total acreage of approximately 39 acres, including roads. Areas of the project site have very steep slopes. The highest topographic elevation is to the north at the intersection of 23rd Street and Arkansas Street at 265 feet above mean sea level (msl) and the lowest elevation is to the south at the intersection of 26th Street and Connecticut Street at 40 feet above msl. Surrounding land uses include residential, commercial, recreational, and industrial uses. To the north and northwest there are multi-family residences, single-family residences, and the Potrero Hill Recreation Center. To the west are multi-family residences, single-family residences, and Starr King Elementary School. To the south are industrial uses. Across Texas Street to the east are multi-family residential, single-family residential, and industrial uses. The obsolete buildings that make up the site are in need of replacement. In addition, dead-end streets and steep topography isolate this housing development from the surrounding neighborhood.

Built in two phases in 1941 and 1955, the Potrero site is comprised of two of the oldest public housing developments in San Francisco, Potrero Terrace and Potrero Annex. Together, these public housing developments house a population of approximately 1,200 people. The proposed project would replace all 606 existing housing units; incorporate additional affordable housing and market-rate homes into the community; and add amenities such as open space, retail opportunities, and neighborhood services. Including the 606 public housing units, the proposed project would build up to 1,700 homes. The proposed project would include buildings between three to eight stories, and would range in height from 40 feet to 85 feet. Development would occur in phases to minimize disruption to existing residents. The proposed project would include new vehicle connections, new pedestrian connections, a new circulation pattern and new bus transit stops. In addition, the proposed project would incorporate green construction and sustainable principles.

Alternatives to the Proposed Action

There are three alternatives to the proposed action to be analyzed in the EIS. Alternative 1 is a variation of the project density. Alternative sites for the project were explored early in the process and it was determined that no other more viable site was available.

Alternative 1—Reduced Development Alternative

Number of Units: 1,280.

Maximum Height: 40 feet.

Acreage: 39 acres (no change).

Percent Reduction: 25 percent.

Alternative 2—Replacement of Existing Public Housing Units

Number of Units: 606 units.

Acreage: 39 acres.

No Community Center, No retail, no additional open space.

Percent Reduction: 64 percent.

Alternative 3—No Project Alternative

The No Project Alternative would analyze the “no action” alternative, which would be the continuation of uses on the site; therefore, existing buildings and tenants would remain at the project site and no new buildings or uses would be constructed.

B. Need for the EIS

The proposed project may constitute an action significantly affecting the quality of the human environment and an EIS will be prepared on this project by the City and County of San Francisco's MOH in accordance with the National Environmental Policy Act of 1969 (42 U.S.C. 4321 et seq.). Responses to this notice will be used to: (1) Determine significant environmental issues, (2) identify data that the EIS should address, and (3) identify agencies and other parties that will participate in the EIS process and the basis for their involvement.

C. Scoping

A public EIS scoping meeting will be held on a date within the comment period and after at least 15 days of publishing this Notice of Intent. Notices of the scoping meeting will be mailed when the date has been determined. The EIS scoping meeting will provide an opportunity for the public to learn more about the project and provide input to the environmental process. At the meeting, the public will be able to view graphics illustrating preliminary planning work and talk with MOH staff, and members of the consultant team providing technical analysis to the project. Translators will be available. Written comments and testimony concerning the scope of the EIS will be accepted at this meeting. In accordance with 40 CFR 1501.7 affected Federal, State, and local agencies, any affected Indian tribe, and other interested parties will be sent a scoping notice. Owners and occupants within a 300-foot radius will also be notified of the scoping process. In accordance with 24 CFR 58.59, the scoping hearing will be preceded by a notice of public hearing published in the local news media 15 days before the hearing date.

The scoping process associated with the CEQA process took place from November 2010 through December 2010. A CEQA public scoping meeting was held on November 22, 2010.

D. Probable Environmental Effects

The following subject areas will be analyzed in the combined EIR/EIS for probable environmental effects: Land Use and Planning (land use patterns, relationship to plans/policies and regulations; Visual Quality/Aesthetics (views/light and glare); Socioeconomics and Community (demographic character changes, displacement); Environmental Justice (disproportionately high and adverse effects on minority and low income populations); Cultural/Historic Resources; Transportation and Circulation; Noise (construction and operational); Air Quality (construction and operational); Greenhouse Gas Emissions; Wind and Shadow; Recreation; Utilities and Service Systems (water supply, stormwater, sewer, solid waste); Public Services (fire, police, schools, parks); Biological Resources; Geology/Soils; Hydrology/Water Quality (erosion control and drainage); Hazardous and Hazardous Materials; Mineral and Energy Resources; and Agriculture and Forest Resources.

Questions may be directed to the individual named in this notice under the heading FOR FURTHER INFORMATION CONTACT.

Dated: April 25, 2012.
Mercedes M. Márquez,
Assistant Secretary for Community Planning and Development.

[FR Doc. 2012-10580 Filed 5-1-12; 8:45 am]

BILLING CODE 4210-67-P